FEDERAL COMMUNICATIONS COMMISSION

47 CFR Part 73

[DA 03-4035, MB Docket No. 03-258, RM-10833]

Radio Broadcasting Services; Newcastle and Pine Haven, WY

AGENCY: Federal Communications Commission.

ACTION: Proposed rule.

SUMMARY: This document requests comments on a Petition for Rule Making filed by Michael Radio Group, licensee of Station KRKI(FM), Channel 258A, Newcastle, Wyoming, proposing the substitution of Channel 258C0 for Channel 258A at Newcastle, Wyoming and the modification of the license for Station KRKI(FM) accordingly. The FM Table of Allotments has not been amended to reflect the grant of a license application for Station KRKI(FM) to specify operation on Channel 258A in lieu of Channel 257A at Newcastle, Wyoming (BLH-20030117AAS). This action constitutes an editorial change in the FM Table of Allotments. Moreover, we find for good cause that a public notice and comment proceeding is unnecessary. See 5 U.S.C. 553(b)(A) and (B). Channel 258C0 can be allotted to Newcastle, Wyoming, in compliance with the minimum distance separation requirement of the Commission's Rules, provided there is a site restriction 36.5 kilometers (22.7 miles) east of the community. The reference coordinates for Channel 258C0 at Newcastle are 43-52-10 NL and 103-45-04 WL. To accommodate the allotment at Newcastle, we shall also propose the substitution of Channel 260A for vacant Channel 259A at Pine Haven, Wyoming. Channel 260A can be allotted to Pine Haven, in compliance with the minimum distance separation requirement of the Commission's Rules at city reference coordinates. The reference coordinates for Channel 260A at Pine Haven are 44-21-28 NL and 104-48-36 WL. In accordance with Section 1.420(g) of the Commission's Rules, we will not accept competing expressions of interest for the use of Channel 258C0 at Newcastle, Wyoming or require Petitioner to demonstrate the availability of an additional equivalent class channel for use by such parties.

DATES: Comments must be filed on or before February 17, 2004, and reply comments on or before March 3, 2004.

ADDRESSES: Federal Communications Commission, 445 Twelfth Street, SW., Washington, DC. 20554. In addition to filing comments with the FCC, interested parties should serve the petitioner, as follows: Michael Radio Group, c/o A. Wray Fitch III, Gammon and Grange, P.C., 8280 Greensboro Drive, 7th Floor, McLean, Virginia 22101-3807.

FOR FURTHER INFORMATION CONTACT: Rolanda F. Smith, Media Bureau, (202) 418-2180.

SUPPLEMENTARY INFORMATION: This is a summary of the Commission's Notice of Proposed Rule Making, MB Docket No. adopted December 18, 2003, and released December 23, 2003. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC, 20554, telephone (202) 863-2893, facsimile 202-863-2898, or via e-mail qualexint@aol.com.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Wyoming, is amended by removing Channel 257A and by adding Channel 258C0 at Newcastle and by removing Channel 259A and by adding Channel 260A at Pine Haven.

Federal Communications Commission.
John A. Karousos,
Assistant Chief, Audio Division, Media Bureau.

[FR Doc. 04-108 Filed 1-5-04; 8:45 am]

BILLING CODE 6712-01-U